NATIONAL SCIENCE FOUNDATION

Advisory Committee for Biological Sciences (BIO); Notice of Meeting

In accordance with the Federal Advisory Committee Act (Pub. L. 92-463, as amended), the National Science Foundation announces the following meeting:

Name: Advisory Committee for Biological Sciences (BIO) (1110).

Date and Time: November 7, 2002, 8:30 am.-5 p.m., November 8, 2002, 8:30 a.m.-3 p.m.

Place: National Science Foundation, 4201 Wilson Blvd., Arlington, VA 22230, Stafford II, Room 595.

Type of Meeting: Open.

Contact Person: Dr. Mary E. Clutter, Assistant Director, Biological Sciences, Room 605, National Science Foundation, 4201 Wilson Blvd., Arlington, VA 22230. Tel No.: (703) 292-8400.

Minutes: May be obtained from the contact person listed above.

Purpose of Meeting: The Advisory Committee for BIO provides advice, recommendations, and oversight concerning major program emphases, directions, and goals for the research-related activities of the divisions that make up BIO.

Agenda: Planning and issues discussion.

Dated: October 29, 2002.
Susanne Bolton,
Committee Management Officer.

[FR Doc. 02-27908 Filed 11-01-02; 8:45 am]

BILLING CODE 7555-01-M